DEPARTMENT OF TRANSPORTATION

Federal Highway Administration

Environmental Impact Statement: Polk County, IA

AGENCY: Federal Highway Administration (FHWA), DOT, Polk County.

SUMMARY: The FHWA and Iowa DOT are issuing this notice to advise the public an EIS will be prepared for a proposed roadway project in Polk County, Iowa. The planned EIS will evaluate potential transportation improvement alternatives for serving northwest Des Moines and its neighboring communities between IA 415 and Euclid Avenue.

FOR FURTHER INFORMATION CONTACT: Michael La Pietra, Environment and Realty Manager, FHWA Iowa Division Office, 105 Sixth Street, Ames, IA 50010, Phone 515-233-7302; or James P. Rost, Director, Office of Location and Environment, Iowa Department of Transportation, 800 Lincoln Way, Ames, IA 50010, Phone 515-239-1798.

SUPPLEMENTARY INFORMATION:

Electronic Access

An electronic copy of this document is available for free download from the Federal Bulletin Board (FBB). The FBB is a free electronic bulletin board service of the Superintendent of Documents, U.S. Government Printing Office (GPO).

The FBB may be accessed in four ways: (1) Via telephone in dial-up mode or via the Internet through (2) telnet, (3) FTP, and (4) the World Wide Web.

For dial-up mode a user needs a personal computer, modem, telecommunications software package, and telephone line. A hard disk is recommended for file transfers.

For Internet access a user needs Internet connectivity. Users can telnet or FTP to: fedbbs.access.gpo.gov. Users can access the FBB via the World Wide Web at http://fedbbs.access.gpo.gov.

User assistance for the FBB is available from 7 a.m. until 5 p.m., Eastern Time, Monday through Friday (except federal holidays) by calling the GPO Office of Electronic Information Dissemination Services at 202-512-1530, toll-free at 888-293-6498; sending an e-mail to gpoaccess@gpo.gov; or sending a fax to 202-512-1262.

Access to this notice is also available to Internet users through the Federal Register's home page at http://www.nara.gov/fedreg.

Background

The FHWA, in cooperation with the Iowa Department of Transportation and Polk County will prepare an EIS for the roadway improvements between IA 415/NW 26th Street and Euclid Avenue/M.L. King Parkway in Des Moines. The proposed project would include an interchange with I-35/80 at NW 26th Street and also provide access to Morningstar Drive.

The purpose of the NW 26th Street extension is to provide increased system continuity between Des Moines, Ankeny, and Polk City, by providing a continuous route between IA 5 and IA 415 via NW 26th Street, M.L. King Parkway, and Fleur Drive. The proposed corridor improvements would relieve north-south traffic congestion on both Merle Hay Road and 2nd Avenue. The improvement of NW 26th Street would also provide direct access via IA 415 to the Saylorville/Big Creek Recreation Area, Polk City, and Ankeny.

Alternatives under consideration include: (1) Taking no action; (2) widening existing roadways; (3) Transportation System Management/Transportation Demand Management (TSM/TDM) strategies; and, (4) constructing a roadway on a new location.

The build alternative will include consideration of various alignments and grades. Letters describing the proposed action and soliciting comments will be sent to appropriate Federal, State, and local agencies, and to private organizations and citizens who have previously expressed or are known to have interest in this proposal. A series of public meetings will be held in 2006 and 2007. In addition, a public hearing will be held upon completion of the draft EIS. Public notice will be given of the time and place of the public meetings and public hearing. The draft EIS will be available for public and agency review and comment prior to the public hearing.

A scoping meeting (the initial public meeting) will be held identifying significant issues to be addressed in the environmental impact statement. The date and location of the scoping meeting have not yet been determined but will be advertised in various local media.

To ensure that the full range of issues related to this proposed action are addressed and all significant issues are identified, comments and suggestions are invited from all interested parties. Comments or questions concerning this proposed action and the EIS should be directed to the FHWA or Iowa Department of Transportation at the address provided in the caption FOR FURTHER INFORMATION CONTACT.

(Catalog of Federal Domestic Assistance Program Number 20.205, Highway Planning and Construction. The regulations implementing Executive Order 12372 regarding intergovernmental consultation on Federal programs and activities apply to this program.)

(Authority: 23 U.S.C. 315; 49 CFR 1.48)

Dated: October 5, 2006.
Philip E. Barnes,
Division Administrator, FHWA, Iowa Division.

[FR Doc. E6-17015 Filed 10-12-06; 8:45 am]

BILLING CODE 4910-22-P